DEPARTMENT OF HEALTH AND HUMAN SERVICES

Centers for Medicare & Medicaid Services

[Document Identifier: CMS-10257, CMS-R-263 and CMS-10097]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: National Medicare Training Program Training Needs Assessment Survey; Use: The Centers for Medicare and Medicaid Services (CMS) is requesting clearance for an Online Needs Assessment Survey that will inform the National Medicare Training Program (NMTP) in their efforts to develop materials vital to the performance of key Medicare partners. NMTP communicates information about a wide array of Medicare topics to a diverse audience of partner organizations through in-person workshops, teleconferences, and Online training materials. These partner organizations include other state and federal agencies, health plans, aging networks/coalitions, long term care institutions, disability/mental health providers and advocates, HIV/AIDS providers, other health care providers and disease-specific advocacy groups, faith based organizations, and racial/ethnic minority organizations. These partners extend the reach of NMTP to population segments that have information barriers, including language, literacy, location, and culture, to help them understand the varied and sometimes complex choices about how they receive their Medicare benefits. This survey will allow NMTP to assess the education and training needs of its partner organizations on an annual basis, to ensure that they have the information and materials they need to assist the beneficiaries they serve. Form Number: CMS-10257 (OMB# 0938-New); Frequency: Yearly; Affected Public: Not-for-profit institutions, State, Local and Tribal governments, Federal Government; Number of Respondents: 4,000; Total Annual Responses: 4,000; Total Annual Hours: 1,000.

2. Type of Information Collection Request: Revision of a currently approved collection; Title of Information Collection: Site Investigation for Durable Medical Equipment (DME) Suppliers; Use: The Centers for Medicare and Medicaid Services (CMS) enrolls durable medical equipment, prosthetics, orthotics, and supplies (DMEPOS) suppliers into the Medicare program via a uniform application, the CMS 855S. Implementation of enhanced procedures for verifying the enrollment information has improved the enrollment process as well as identified and prevented fraudulent DMEPOS suppliers from entering the Medicare program. As part of this process, verification of compliance with supplier standards is necessary. The site investigation form has been used in the past to aid the Medicare contractor (the National Supplier Clearinghouse (NSC) and/or its subcontractors) in verifying compliance with the required supplier standards found in 42 CFR 424.57(c). The primary function of the site investigation form is to provide a standardized, uniform tool to gather information from a DMEPOS supplier that tells us whether it meets certain qualifications to be a DMEPOS supplier (as found in 42 CFR 424.57(c)) and where it practices or renders its services. Form Number: CMS-R-263 (OMB# 0938-0749); Frequency: Occasionally; Affected Public: Business or other for-profit and Not-for-profit institutions; Number of Respondents: 30,000; Total Annual Responses: 30,000; Total Annual Hours: 15,000.

3. Type of Information Collection Request: Revision of a currently approved collection; Title of Information Collection: The Annual Medicare Contractor Provider Satisfaction Survey (MCPSS); Use: Medicare Contractors are charged with processing Medicare claims and related activities and providers interact with them on a daily basis. The Medicare Contractor Provider Satisfaction Survey (MCPSS) measures this Provider-Contractor relationship. The Contractors are currently using, and will continue to use, the MCPSS results to implement performance improvement activities within their organizations. The MCPSS questionnaire includes the following topics: Provider inquiries, provider outreach & education, claims processing, appeals, provider enrollment, medical review, and provider audit & reimbursement. The Survey is designed to measure provider satisfaction, attitudes, perceptions and opinions about the services provided by their respective Contractor. The results include quantitative data (a satisfaction score) and qualitative information (comments relevant to specific topics).

The 2009 MCPSS will differ from 2008 in two ways, (refer to the specific documents for additional changes): (1) The questionnaire will be slightly modified, including the net addition of two questions; and (2) the definition of a completed survey will be revised. Form Number: CMS-10097 (OMB# 0938-0915); Frequency: Yearly; Affected Public: Business or other for-profits and Not-for-profit institutions; Number of Respondents: 24,279; Total Annual Responses: 24,279; Total Annual Hours: 8346.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on August 21, 2008.

OMB Human Resources and Housing Branch, Attention: OMB Desk Officer, New Executive Office Building, Room 10235, Washington, DC 20503, Fax Number: (202) 395-6974.

Dated: July 11, 2008.
Michelle Shortt,
Director, Regulations Development Group, Office of Strategic Operations and Regulatory Affairs.

[FR Doc. E8-16778 Filed 7-21-08; 8:45 am]

BILLING CODE 4120-01-P